DEPARTMENT OF ENERGY

Federal Energy Regulatory Commission

Combined Notice of Filings #1

January 12, 2010.

Take notice that the Commission received the following electric corporate filings:

Docket Numbers: EC10-37-000.

Applicants: Mountain View Power Partners, LLC, Indianapolis Power & Light Company, AES Eastern Energy, LP, AES Energy Storage, LLC, AEE 2 LLC, AES CREATIVE RESOURCES LP, AES IRONWOOD LLC, AES Redondo Beach, LLC, Lake Benton Power Partners LLC, Condon Wind Power, LLC, AES Placerita, Inc., AES Huntington Beach, LLC, AES Armenia Mountain Wind, LLC, China Investment Corporation, AES Alamitos, LLC, AES RED OAK LLC, Storm Lake Power Partners II LLC.

Description: Application for Authorization under Section 203 of the Federal Power Act and Request for Expedited action of AES Applicants and China Investment Corporation.

Filed Date: 01/11/2010.

Accession Number: 20100111-5146.

Comment Date: 5 p.m. Eastern Time on Monday, February 1, 2010.

Take notice that the Commission received the following electric rate filings:

Docket Numbers: ER94-1384-000; ER99-2329-000.

Applicants: Morgan Stanley Capital Group, Inc.; South Eastern Electric Development Corporation.

Description: Morgan Stanley Capital Group Inc et al. submits letter notifying FERC that they sell electric energy at market-based rates at wholesale and do not sell electric to any purchaser for the purposes other than for resale.

Filed Date: 01/08/2010.

Accession Number: 20100111-0042.

Comment Date: 5 p.m. Eastern Time on Friday, January 29, 2010.

Docket Numbers: ER97-4345-026; ER98-511-014.

Applicants: Oklahoma Gas and Electric Company, OGE Energy Resources, Inc.

Description: Notice of Non-Material Change in Status of Oklahoma Gas and Electric Company, et al.

Filed Date: 01/11/2010.

Accession Number: 20100111-5147.

Comment Date: 5 p.m. Eastern Time on Monday, February 1, 2010.

Docket Numbers: ER10-65-001.

Applicants: New York Independent System Operator, Inc.

Description: New York Independent System Operator, Inc submits proposed revisions to its Market Administration and Control Area Services Tariff, FERC Electric Tariff, Original Volume 2.

Filed Date: 01/08/2010.

Accession Number: 20100111-0209.

Comment Date: 5 p.m. Eastern Time on Friday, January 29, 2010.

Docket Numbers: ER10-90-002.

Applicants: Lonestar Energy Partners LLC.

Description: Lonestar Energy Partners, LLC submits an Amended Petition for Acceptance of Initial Rate Schedule, Waivers and Blanket Authority.

Filed Date: 01/08/2010.

Accession Number: 20100111-0206.

Comment Date: 5 p.m. Eastern Time on Friday, January 29, 2010.

Docket Numbers: ER10-354-001.

Applicants: Starion Energy Inc.

Description: Starion Energy Inc. submits supplement its Application for Order Accepting Rates for filing and Granting Waivers and Blanket Approvals.

Filed Date: 01/07/2010.

Accession Number: 20100107-0212.

Comment Date: 5 p.m. Eastern Time on Thursday, January 28, 2010.

Docket Numbers: ER10-566-000.

Applicants: Coso Geothermal Power Holdings, LLC.

Description: Petition of Coso Geothermal Power Holdings, LLC for order accepting market-based rate tariff for filing and granting waivers and blanket approvals and request for expedited action.

Filed Date: 01/08/2010.

Accession Number: 20100111-0207.

Comment Date: 5 p.m. Eastern Time on Friday, January 29, 2010.

Docket Numbers: ER10-572-000.

Applicants: California Independent System Operator Corporation.

Description: California Independent System Operator Corporation submits an Agreement for the Engagement of Study Services for SGIP with San Diego Gas & Electric Company.

Filed Date: 01/08/2010.

Accession Number: 20100111-0211.

Comment Date: 5 p.m. Eastern Time on Friday, January 29, 2010.

Docket Numbers: ER10-573-000.

Applicants: New York Independent System Operator, Inc.

Description: New York Independent System Operator, Inc submits proposed revisions to Attachment S of its Open Access Transmission Tariff to combine the Class Year 2009 and 2010 Interconnection Facilities Studies etc.

Filed Date: 01/08/2010.

Accession Number: 20100111-0208.

Comment Date: 5 p.m. Eastern Time on Friday, January 29, 2010.

Docket Numbers: ER10-574-000.

Applicants: NRG Solar Blythe LLC.

Description: NRG Solar Blythe LLC submits Notice of Succession notifying the Commission of a name change from FSE Blythe 1, LLC, to NGR Solar Blythe LLC under FERC's Electric Tariff, Original Volume 1.

Filed Date: 01/08/2010.

Accession Number: 20100111-0204.

Comment Date: 5 p.m. Eastern Time on Friday, January 29, 2010.

Docket Numbers: ER10-575-000.

Applicants: PJM Interconnection, LLC.

Description: PJM Interconnecction submits the executed interconnection service agreements.

Filed Date: 01/11/2010.

Accession Number: 20100111-0218.

Comment Date: 5 p.m. Eastern Time on Monday, February 1, 2010.

Docket Numbers: ER10-576-000.

Applicants: Midwest Independent System Transmission Operator, Inc.

Description: Midwest Independent Transmission System Operator, Inc submits proposed revisions to Schedule 10 etc.

Filed Date: 01/11/2010.

Accession Number: 20100111-0217.

Comment Date: 5 p.m. Eastern Time on Monday, February 1, 2010.

Docket Numbers: ER10-577-000.

Applicants: SOWEGA Power LLC.

Description: SOWEGA Power LLC submits a notice of cancellation et al.

Filed Date: 01/07/2010.

Accession Number: 20100111-0224.

Comment Date: 5 p.m. Eastern Time on Thursday, January 28, 2010.

Docket Numbers: ER10-578-000.

Applicants: Southwest Power Pool, Inc.

Description: Southwest Power Pool, Inc submits the Meter Agent Services Agreement.

Filed Date: 01/11/2010.

Accession Number: 20100111-0225.

Comment Date: 5 p.m. Eastern Time on Monday, February 1, 2010.

Docket Numbers: ER10-579-000.

Applicants: Midwest Independent Transmission System Operator, Inc.

Description: Midwest Independent Transmission System Operator, Inc submits an Amended and Restated Large Generator Interconnection Agreement with American Transmission Co, LLC et al.

Filed Date: 01/11/2010.

Accession Number: 20100111-0226.

Comment Date: 5 p.m. Eastern Time on Monday, February 1, 2010.

Docket Numbers: ER10-580-000.

Applicants: Silverhill Investments Corp.

Description: Notification of Jurisdictional status of Silverhill Investments Corp and request for Waivers and request for Blanket Approval under 18 CFR Part 34 for all future issuances of securities.

Filed Date: 01/11/2010.

Accession Number: 20100111-0229.

Comment Date: 5 p.m. Eastern Time on Monday, February 1, 2010.

Docket Numbers: ER10-581-000.

Applicants: Southwest Power Pool, Inc.

Description: Southwest Power Pool, Inc submits an executed Service Agreement for Network Integration Transmission Service with Westar Energy et al.

Filed Date: 01/11/2010.

Accession Number: 20100111-0228.

Comment Date: 5 p.m. Eastern Time on Monday, February 1, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-1011 Filed 1-20-10; 8:45 am]

BILLING CODE 6717-01-P